DEPARTMENT OF STATE

[Public Notice 7239]

U.S. Department of State Advisory Committee on Private International Law (ACPIL): Public Meeting on Family Law

The Department of State, Office of Legal Adviser, Office of Private International Law would like to give notice of a public meeting to discuss preparations for the upcoming Special Commission of the Hague Conference on Private International Law on the 1980 Hague Child Abduction Convention and the 1996 Hague Child Protection Convention. The Special Commission will be held in two sessions: June 2011 and January 2012. The public meeting will focus on the desirability and feasibility of a protocol to the 1980 Hague Child Abduction Convention. In that regard, the Permanent Bureau of the Hague Conference has circulated to member States a questionnaire (which may be found at: http://www.hcch.net/upload/wop/sc2011pd02e.DOC). The questionnaire asks whether member States believe that the a protocol to the Abduction Convention should be negotiated and, if so, whether any such protocol should address: (1) Mediation, conciliation, and other similar means to promote the amicable resolution of cases under the Abduction Convention; (2) direct judicial communications; (3) expeditious procedures; (4) the safe return of the child; (5) allegations of domestic violence; (6) the views of the child; (7) enforcement of return orders; (8) access and contact; (9) definitions; (10) international relocation of a child; (11) reviewing the operation of the Abduction Convention; or (12) other matters. Responses from member States are due March 15, 2011.

Time and Place: The public meeting will take place on Friday, March 4, 2011, from 9:30 a.m. to 1:30 p.m. EST in Room 1107 in the Department of State's Harry S Truman Building, 2201 C Street, NW., Washington, DC 20520. If you are unable to attend the public meeting and would like to participate from a remote location, teleconferencing will be available.

Public Participation: This meeting is open to the public, subject to the capacity of the meeting room. Access to the meeting building is controlled. Persons wishing to attend in person or telephonically should contact Trisha Smeltzer (SmeltzerTK@state.gov) or Niesha Toms (TomsNN@state.gov) of the Office of Private International Law. If you would like to participate in person or telephonically, please provide your name, affiliation, e-mail address, and mailing address. If you would like to participate in person, please also provide your date of birth, citizenship, and driver's license or passport number for entry in the Harry S Truman building. Members of the public who are not precleared might encounter delays with security procedures. Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information. A member of the public needing reasonable accommodation should advise either of the aforementioned contacts not later than February 23, 2011. Requests made after that date will be considered, but might not be able to be fulfilled. If you would like to comment on any of the 12 matters identified above, please identify those matters so that an agenda, with appropriate allocations of time, may be developed.

Dated: January 26, 2011.
Michael S. Coffee,
Attorney-Adviser, Office of Private International Law, Washington, DC.

[FR Doc. 2011-2396 Filed 2-2-11; 8:45 am]

BILLING CODE 4710-08-P